DEPARTMENT OF COMMERCE

National Oceanic and Atmospheric Administration

RIN 0648-XC071

Strategic Plan for Federal Research and Monitoring of Ocean Acidification

AGENCY: National Marine Fisheries Service (NMFS), National Oceanic and Atmospheric Administration (NOAA), Commerce.

ACTION: Notice of availability; request for public comments.

SUMMARY: We are advising the public that a Draft Strategic Plan for Federal Research and Monitoring of Ocean Acidification is being made available for public review and comment. The Draft Research Plan presents a vision for how to move Federal agencies toward a better understanding of the process of ocean acidification, its effects on marine ecosystems, and the steps that could be taken to adapt marine resource management to account for it.

DATES: Comments must be received on or before September 10, 2012.

ADDRESSES: Please visit http://www.st.nmfs.noaa.gov/iwgoa/pages/research_strategy.html to view and provide comments on the draft Strategy. Comments can be submitted via an online form or by submitting revised version of the strategy, with changes tracked, to NMFS.ST.OAStrategy@noaa.gov. Alternatively, you may send comments by U.S. mail to National Oceanic and Atmospheric Administration National Marine Fisheries Service, ATTN: OA Strategy Coordinator, 1315 East-West Highway, F/ST7, Silver Spring, MD 20910.

FOR FURTHER INFORMATION CONTACT: Dr. Jennifer Howard, 301-713-8173, NMFS.ST.OAStrategy@noaa.gov

SUPPLEMENTARY INFORMATION:

Background

The development of this Strategic Plan (Plan) was directed by section 12404(c) and guided by section 12405 of the Federal Ocean Acidification Research And Monitoring Act of 2009, 33 U.S.C. 3701-3708, (FOARAM Act). The Plan is intended to guide “Federal research and monitoring on ocean acidification that will provide for an assessment of the impacts of ocean acidification on marine organisms and marine ecosystems and the development of adaption and mitigation strategies to conserve marine organisms and marine ecosystems.”

This Plan presents a vision on how to move Federal agencies toward a better understanding of the process of ocean acidification, its effects on marine ecosystems, and the steps that could be taken to adapt marine resource management to account for it. The Plan calls for the implementation of a comprehensive global and regional ocean acidification observing system that includes the monitoring of biological effects on marine organisms and ecosystems. Researchers will quantify the physiological effects of ocean acidification, under a range of scenarios, on a wide variety of marine organisms. Enhanced modeling efforts will lead to improved understanding of the global biogeochemical processes of ocean acidification and its impact on marine ecosystems. Pursuant to section 12404 of the FOARAM Act, 33 U.S.C. 3703, a National Ocean Acidification Program will be established to lead U.S. coordination of ocean acidification activities between the Federal agencies, and with academic institutions, industry, and other private sector and international partners. A national ocean acidification data management and information exchange program will ensure that ocean acidification information reaches scientists, decision makers, and the public in a timely manner. Finally, the U.S. will join other countries in establishing a robust international research program to address this global challenge.

Overview

The Plan is organized into seven priority themes:

Theme 1—“Monitoring of Ocean Chemistry and Biological Impacts,” identifies sampling programs that collect ocean acidification data, and it prioritizes additional monitoring systems necessary for adequate data collection and monitoring.

Theme 2—“Research to Understand Responses to Ocean Acidification,” describes the goals and priorities to understand the physiological responses of marine organisms to ocean acidification and its interactions with other stressors, the impacts to marine food webs, and possible approaches to track ecosystem responses.

Theme 3—“Modeling to Predict Changes in the Ocean Carbon Cycle and Impacts on Marine Ecosystems and Organisms,” summarizes requirements and recommendations for modeling ocean acidification, and its impacts on marine organisms and ecosystems, including codifying our research understanding and studying the interplay of factors affecting marine ecosystems, thus permitting analysis of the efficacy of adaptation and mitigation strategies.

Theme 4—“Technology Development and Standardization of Measurements,” describes goals that ensure the ability to measure all required parameters through technology development and adequate data quality via measurement standardization.

Theme 5—“Assessment of Socioeconomic Impacts and Development of Strategies to Conserve Marine Organisms and Ecosystems,” focuses on assessing the socioeconomic impacts of ocean acidification and developing adaptation and mitigation strategies.

Theme 6—“Education, Outreach, and Engagement Strategy on Ocean Acidification,” describes goals for designing and coordinating educational, public outreach, and domestic and international engagement activities, as well as ensuring results and assessments of monitoring and research efforts are accessible to and understandable by all stakeholders.

Theme 7—“Data Management and Integration,” discusses the need for effective data management and integration within the context of other international, Federal, State, local and private activities.

Description of Desired Comments

General comments are welcome and specific comments are invited on: (1) Whether the proposed strategy meets the requirements of the FOARAM Act, (2) whether the proposed strategy meets the ocean acidification research needs of the United States; (3) ways to enhance the quality, utility, and clarity of the strategy; and (4) any additional information that is currently absent that should be included. Comments submitted in response to this notice will become a matter of public record and will be posted online together with responses from the Interagency Working Group on Ocean Acidification established under section 12404 of the FOARAM Act. Id. All comments will be carefully considered and addressed in the Strategic Research Plan to the extent possible.

Public Availability of Comments

All comments received are a part of the public record and may be posted for public viewing at http://www.st.nmfs.noaa.gov/iwgoa/pages/research_strategy.html without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted via email to NMFS.ST.OAStrategy@noaa.gov in Microsoft Word or Excel, WordPerfect, or Adobe PDF file formats only.

Dated: July 5, 2012.
David Detlor,
Acting Director, Office of Science and Technology, National Marine Fisheries Service.

[FR Doc. 2012-16919 Filed 7-10-12; 8:45 am]

BILLING CODE 3510-22-P